DEPARTMENT OF TRANSPORTATION

Federal Aviation Administration

14 CFR Part 39

[Docket No. FAA-2025-1726; Project Identifier 2008-NM-169-AD; Amendment 39-23100; AD 2010-09-11R1]

RIN 2120-AA64

Airworthiness Directives; BAE SYSTEMS (Operations) Limited Airplanes

AGENCY: Federal Aviation Administration (FAA), DOT.

ACTION: Final rule; removal; request for comments.

SUMMARY: The FAA is removing Airworthiness Directive (AD) 2010-09-11, which applied to all BAE SYSTEMS (Operations) Limited Model BAe 146-series and Model Avro 146-RJ series airplanes. AD 2010-09-11 required repetitive inspections for cracking and corrosion and applicable corrective actions. Since the FAA issued AD 2010-09-11, the FAA issued AD 2022-06-14 to address the same unsafe condition. Accordingly, AD 2010-09-11 is removed.

DATES: This AD becomes effective August 5, 2025.

The FAA must receive comments on this AD by September 19, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1726; or in person at Docket Operations between 9 a.m. and 5 p.m., Monday through Friday, except Federal holidays. The AD docket contains this final rule, any comments received, and other information. The street address for Docket Operations is listed above.

FOR FURTHER INFORMATION CONTACT: Darren Gassetto, Aviation Safety Engineer, FAA, 1600 Stewart Avenue, Suite 410, Westbury, NY 11590; phone: 516-228-7323; email: 9-AVS-AIR-BACO-COS@faa.gov.

SUPPLEMENTARY INFORMATION:

Comments Invited

The FAA invites you to send any written relevant data, views, or arguments about this final rule. Send your comments using a method listed under the ADDRESSES section. Include “Docket No. FAA-2025-1726; Project Identifier 2008-NM-169-AD” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Darren Gassetto, Aviation Safety Engineer, FAA, 1600 Stewart Avenue, Suite 410, Westbury, NY 11590; phone: 516-228-7323; email: 9-AVS-AIR-BACO-COS@faa.gov. Any commentary that the FAA receives which is not specifically designated as CBI will be placed in the public docket for this rulemaking.

Background

The FAA issued AD 2010-09-11, Amendment 39-16276 (85 FR 23568, May 4, 2010) (AD 2010-09-11), for all BAE SYSTEMS (Operations) Limited Model BAe 146-series and Model Avro 146-RJ series airplanes. AD 2010-09-11 required repetitive X-ray inspections to detect fatigue cracks in the left- and right-wing upper skins, joint straps, and stringers in the vicinity of rib `0' until the following inspections are initially done:

• Repetitive high frequency eddy current (HFEC) inspections of the front and rear spar flanges, a detailed visual inspection of the stringers, and a detailed visual inspection of the stringer crown fittings, all at the rib `0' joint strap for cracking and corrosion.

AD 2010-09-11 also required repetitive detailed visual and HFEC inspections to detect cracking and corrosion of the rib `0' strap, radiographic inspections of the rib `0' joint, and ultrasonic inspections of the skin at the rib `0' joint strap; repairing any cracking or corrosion; and reporting initial inspection findings.

AD 2010-09-11 was prompted by AD 2008-0168, dated September 2, 2008, issued by the European Union Aviation Safety Agency (EASA), which is the Technical Agent for the Member States of the European Union. EASA determined that a revised inspection program for the wing top skin and joint strap at rib `0' is necessary to ensure the continued structural integrity of this area. The FAA issued AD 2010-09-11 to address cracking of the wing center section top skin, which could lead to structural failure and consequent loss of the airplane.

Actions Since AD 2010-09-11 Was Issued

Since the FAA issued AD 2010-09-11, the United Kingdom Civil Aviation Authority (UK CAA), which is the aviation authority for the United Kingdom, issued UK CAA AD G-2021-0011, dated October 8, 2021 (UK CAA AD G-2021-0011). UK CAA AD G-2021-0011 applies to all BAE SYSTEMS (Operations) Limited Model BAe 146-series and Model Avro 146-RJ series airplanes and requires revising the maintenance or inspection program, as applicable, to incorporate new or revised structural inspection requirements. UK CAA AD G-2021-0011 superseded EASA AD 2008-0168; however, instead of superseding FAA AD 2010-09-11, the FAA issued AD 2022-06-14, Amendment 39-21980 (87 FR 22126, April 14, 2022) (AD 2022-06-14). Therefore, certain structural inspections required by AD 2022-06-14 conflict with, and are more restrictive than, the inspections required by AD 2010-09-11. The FAA has determined that accomplishment of the more restrictive inspections in AD 2022-06-14 is necessary to adequately address the unsafe condition of AD 2010-09-11.

Conclusion

Upon further consideration, the FAA has determined that the actions required by AD 2010-09-11 are no longer appropriate. Accordingly, this AD removes all actions of AD 2010-09-11. Removal of AD 2010-09-11 does not preclude the FAA from issuing another related action or commit the FAA to any course of action in the future.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

AD 2010-09-11 requires unnecessary structural inspections because the unsafe condition identified in AD 2010-09-11 is corrected by the actions in AD 2022-06-14. In addition, the structural inspections required by AD 2022-06-14 are appropriate because they are more restrictive and more adequately address the unsafe condition. Accordingly, notice and opportunity for prior public comment are unnecessary pursuant to 5 U.S.C. 553(b). In addition, for the foregoing reasons, the FAA finds that good cause exists pursuant to 5 U.S.C. 553(d) for making this amendment effective in less than 30 days.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

There are no costs of compliance with this AD because this AD removes AD 2010-09-11 from 14 CFR part 39. Therefore, operators are no longer required to take any actions to show compliance with AD 2010-09-11.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) AD 2010-09-11, Amendment 39-16276 (85 FR 23568, May 4, 2010), and

b. Adding the following new AD:

2010-09-11R1 BAE SYSTEMS (Operations) Limited: Amendment 39-23100; Docket No. FAA-2025-1726; Project Identifier 2008-NM-169-AD.

(a) Effective Date

This AD is effective August 5, 2025.

(b) Affected AD

This AD replaces AD 2010-09-11, Amendment 39-16276 (85 FR 23568, May 4, 2010) (AD 2010-09-11).

(c) Applicability

This action applies to all BAE SYSTEMS (Operations) Limited Model BAe 146-100A, -200A, and -300A airplanes and Model Avro 146-RJ70A, 146-RJ85A, and 146-RJ100A airplanes, certificated in any category.

(d) Subject

Air Transport Association (ATA) of America Code 57, Wings.

(e) Terminating Action

This AD terminates all requirements of AD 2010-09-11.

(f) Related Information

For more information about this AD, contact Darren Gassetto, Aviation Safety Engineer, FAA, 1600 Stewart Avenue, Suite 410, Westbury, NY 11590; phone: 516-228-7323; email: 9-AVS-AIR-BACO-COS@faa.gov.

(g) Material Incorporated by Reference

None.

Issued on July 30, 2025.
Steven W. Thompson,
Acting Deputy Director, Compliance & Airworthiness Division, Aircraft Certification Service.

[FR Doc. 2025-14815 Filed 8-4-25; 8:45 am]

BILLING CODE 4910-13-P